SMALL BUSINESS ADMINISTRATION

Surrender of License of Small Business Investment Company

Pursuant to the authority granted to the United States Small Business Administration under the Small Business Investment Act of 1958, as amended, under Section 309 of the Act and Section 107.1900 of the Small Business Administration Rules and Regulations (13 CFR 107.1900) to function as a small business investment company under the Small Business Investment Company License No. 02/02-0632 issued to Praesidian Capital Investors, LP said license is hereby declared null and void.

United States Small Business Administration.
Dated: February 8, 2019.
A. Joseph Shepard,
Associate Administrator, Office of Investment and Innovation.

Editorial Note: The Office of the Federal Register received this document for publication on May 21, 2019.

[FR Doc. 2019-10909 Filed 5-23-19; 8:45 am]

BILLING CODE 8026-03-P